NUCLEAR REGULATORY COMMISSION

[NRC-2014-0129]

Embedded Digital Devices in Safety-Related Systems

AGENCY: Nuclear Regulatory Commission.

ACTION: Draft revised regulatory issue summary; request for comment.

SUMMARY: The U.S. Nuclear Regulatory Commission (NRC) is seeking public comment on draft revised regulatory issue summary (RIS) 2014-XX, “Embedded Digital Devices in Safety-Related Systems.” This RIS discusses and clarifies the NRC's technical position on existing regulatory requirements for the quality and reliability of safety-related equipment with embedded digital devices.

DATES: Submit comments by July 7, 2014. Comments received after this date will be considered, if it is practical to do so, but the NRC staff is able to ensure consideration only for comments received on or before this date.

ADDRESSES: You may submit comment by any of the following methods (unless this document describes a different method for submitting comments on a specific subject):

• Federal Rulemaking Web site: Go to http://www.regulations.gov and search for Docket ID NRC-2014-0129. Address questions about NRC dockets to Carol Gallagher; telephone: 301-287-3422; email: Carol.Gallagher@nrc.gov. For technical questions, contact the individual listed in the FOR FURTHER INFORMATION CONTACT section of this document.

• Mail comments to: Cindy Bladey, Office of Administration, Mail Stop: 3WFN, 06-44M, U.S. Nuclear Regulatory Commission, Washington, DC 20555-0001.

For additional direction on accessing information and submitting comments, see “Accessing Information and Submitting Comments” in the SUPPLEMENTARY INFORMATION section of this document.

FOR FURTHER INFORMATION CONTACT: Eugene Eagle, Office of New Reactors, U.S. Nuclear Regulatory Commission, Washington, DC 20555-0001; telephone: 301-415-3706; email: Eugene.Eagle@nrc.gov.

SUPPLEMENTARY INFORMATION:

I. Accessing Information and Submitting Comments

A. Accessing Information

Please refer to Docket ID NRC-2014-0129 when contacting the NRC about the availability of information regarding this document. You may access publicly-available information related to this action by the following methods:

• Federal Rulemaking Web site: Go to http://www.regulations.gov and search for Docket ID NRC-2014-0129.

• NRC's Agencywide Documents Access and Management System (ADAMS): You may access publicly available documents online in the NRC Library at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The draft revised RIS is available in ADAMS under Accession No. ML13338A769.

• NRC's PDR: You may examine and purchase copies of public documents at the NRC's PDR, Room O1-F21, One White Flint North, 11555 Rockville Pike, Rockville, Maryland 20852.

B. Submitting Comments

Please include Docket ID NRC-2014-0129 in the subject line of your comment submission, in order to ensure that the NRC is able to make your comment submission available to the public in this docket.

The NRC cautions you not to include identifying or contact information that you do not want to be publicly disclosed in your comment submission. The NRC will post all comment submissions at http://www.regulations.gov as well as enter the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment submissions into ADAMS.

II. Discussion

The NRC issues RISs to communicate with stakeholders on a broad range of matters. This may include communicating staff technical positions on matters that have not been communicated to, or, are not broadly understood by the nuclear industry.

The NRC staff has developed draft revised RIS 2014-XX, “Embedded Digital Devices in Safety-Related Systems,” to clarify the NRC's technical position on existing regulatory requirements for the quality and reliability of safety-related equipment with embedded digital devices. Further, the purpose is to also raise awareness that there may be potential safety issues from a postulated common cause failure (CCF) if an undetected software error should occur in embedded digital devices located in multiple trains of redundant safety equipment in nuclear facilities.

This RIS is available electronically through the Agencywide Documents Access and Management System (ADAMS) Accession Number ML13338A769. This RIS is a revision of the original draft RIS 2013-XX, “Embedded Digital Devices in Safety-Related Systems, Systems Important to Safety, and Items Relied on For Safety,” (ADAMS Accession Number ML12248A065) issued for public comment May 20, 2013 and reflects adjustments made in response to the public comments received. A table of the public comments received on the original draft RIS with the NRC staff response is publically available electronically (ADAMS Accession Number ML13351A204).

Dated at Rockville, Maryland, this 22nd day of April 2014.
For the Nuclear Regulatory Commission.
Ian C. Jung,
Branch Chief, Instrumentation, Controls, and Electronics Engineering Branch 2, Division of Engineering, Office of New Reactor.

[FR Doc. 2014-13087 Filed 6-4-14; 8:45 am]

BILLING CODE 7590-01-P